FEDERAL COMMUNICATIONS COMMISSION

47 CFR Part 1

[MD Docket No. 02-64; FCC 02-205]

Assessment and Collection of Regulatory Fees for Fiscal Year 2002

AGENCY: Federal Communications Commission.

ACTION: Final rule; correction.

SUMMARY: The Commission makes the following edits to the Assessment and Collection of Regulatory Fees For Fiscal Year 2002, Report and Order, adopted on July 3, 2002 and released on July 5, 2002.

DATES: Effective September 27, 2002.

FOR FURTHER INFORMATION CONTACT: Roland Helvajian, Office of Managing Director at (202) 418-0444.

SUPPLEMENTARY INFORMATION: The Office of the Managing Director wishes to make the following corrections in our recently released Assessment and Collection of Regulatory Fees for Fiscal Year 2002, Report and Order (67 FR 46297 (July 12, 2002). An Erratum identifying these corrections was released on August 21, 2002. The corrections are as follows:

1. On page 46301, paragraph 26 is corrected to read as follows:

v. Standard Fee Calculations and Payment Dates

26. For licensees and permittees of Media (formerly Mass Media) services, the responsibility for payment of regulatory fees rests with the holder of the permit or license on October 1, 2001. However, in instances where a Media service license or authorization is transferred or assigned after October 1, 2001, and arrangements to pay have not been made between the two parties, the fee is still due and must be paid by the licensee or holder of the authorization on the date that the fee payment is due. For licensees, permittees and holders of other authorizations in the Wireline Competition Bureau (formerly Common Carrier) and Cable Services (presently within the Media Bureau) whose fees are not based on a subscriber, unit, or circuit count, the fees paid should be for any authorization issued on or before October 1, 2001. A pending change in the status of a license or permit that is not granted as of that date is not taken into account, and the fee is based on the authorization that existed on October 1, 2001.

2. On page 46325, Attachment H, “Factors, Measurements and Calculations That Go Into Determining Station Signal Contours and Associated Population Coverages” is corrected to read as follows:

AM Stations

Specific information on each day tower, including field ratio, phasing, spacing and orientation was retrieved, as well as the theoretical pattern RMS figure (mV/m @ 1 km) for the antenna system. The standard, or modified standard if pertinent, horizontal plane radiation pattern was calculated using techniques and methods specified in §§ 73.150 and 73.152 of the Commission's rules.¹ Radiation values were calculated for each of 72 radials around the transmitter site (every 5 degrees of azimuth). Next, estimated soil conductivity data was retrieved from a database representing the information in FCC Figure M3. Using the calculated horizontal radiation values, and the retrieved soil conductivity data, the distance to the city grade (5 mV/m) contour was predicted for each of the 72 radials. The resulting distance to city grade contours were used to form a geographical polygon. Population counting was accomplished by determining which 2000 block centroids were contained in the polygon. The sum of the population figures for all enclosed blocks represents the total population for the predicted city grade coverage area.

¹ 47 CFR 73.150 and 73.152.

FM Stations

The maximum of the horizontal and vertical HAAT (m) and ERP (kW) was used. Where the antenna HAMSL was available, it was used in lieu of the overall HAAT figure to calculate specific HAAT figures for each of 72 radials under study. Any available directional pattern information was applied as well, to produce a radial-specific ERP figure. The HAAT and ERP figures were used in conjunction with the propagation curves specified in § 73.313 of the Commission's rules to predict the distance to the city grade (70 dBuV/m or 3.17 mV/m) contour for each of the 72 radials.² The resulting distance to city grade contours were used to form a geographical polygon. Population counting was accomplished by determining which 2000 block centroids were contained in the polygon. The sum of the population figures for all enclosed blocks represents the total population for the predicted city grade coverage area.

² 47 CFR 73.313.

Federal Communications Commission.
Marlene H. Dortch,
Secretary.

[FR Doc. 02-24535 Filed 9-26-02; 8:45 am]

BILLING CODE 6712-02-P